DEPARTMENT OF THE INTERIOR

Fish and Wildlife Service

Information Collection To Be Submitted to the Office of Management and Budget (OMB) for Approval Under the Paperwork Reduction Act; Federal Regional Council Application, Nomination, and Interview Forms

AGENCY: Fish and Wildlife Service, Interior.

ACTION: Notice; request for comments.

SUMMARY: The U.S. Fish and Wildlife Service will submit the collection of information listed below to OMB for approval under the provisions of the Paperwork Reduction Act. A copy of the information collection requirement is included in this notice. If you wish to obtain copies of the proposed information collection requirement, related forms, and explanatory material, contact the Service Information Collection Clearance Officer at the address listed below.

DATES: We accept comments until December 30, 2002.

ADDRESSES: Send your comments on the requirement to Anissa Craghead, Information Collection Clearance Officer, U.S. Fish and Wildlife Service, ms 222-ARLSQ, 4401 N. Fairfax Drive, Arlington, VA 22203.

FOR FURTHER INFORMATION CONTACT: To request a copy of the information collection request, explanatory information and related forms, contact Anissa Craghead at (703) 358-2445, or electronically to anissa_craghead@fws.gov.

SUPPLEMENTARY INFORMATION: The Office of Management and Budget (OMB) regulations at 5 CFR 1320, which implement provisions of the Paperwork Reduction Act of 1995 (Pub. L 104-13), require that interested members of the public and affected agencies have an opportunity to comment on information collection and recordkeeping activities (see CFR 1320.8(d)). The U.S. Fish and Wildlife Service (We) plan to submit a request to OMB for approval of the collection of information related to the recruitment of Federal Subsistence Advisory Council members. We are requesting a 3-year term of approval for this information collection activity.

Federal agencies may not conduct or sponsor, and a person is not required to respond to, a collection of information unless it displays a currently valid OMB control number.

Title VIII of the Alaska National Interest Lands Conservation Act (16 USC 3101) designates the Departments of the Interior and Agriculture as the key agencies responsible for implementing the subsistence priority on Federal public lands for rural Alaska residents. These responsibilities include the establishment of Regional Advisory Councils with members from each region who are knowledgeable about the region and subsistence uses of the public lands. In order for the Federal Board to make recommendations to the Secretaries for membership on these Regional Councils, it is necessary to recruit and screen applicants. These three associated forms allow the Federal Subsistence Board to recruit applicants and to review their credentials in order to make recommendations to the Secretaries for appointment of members to the Regional Councils. One-third of the seats on the Regional Councils become vacant each year. Additional vacancies may occur due to resignations or deaths of sitting members.

Title: Federal Subsistence Regional Advisory Council Membership Application Form.

Approval Number: 1018-XXXX.

Frequency of Collection: Annually.

Description of Respondents: Alaska residents.

Total Annual Burden Hours: The reporting burden is estimated to average 0.5 hours per respondent. With an estimated 120 applicants annually, the estimated Total Annual Burden hours is 60 hours.

Total Annual Responses: About 120 applications are expected to be submitted annually.

Federal Subsistence Regional Advisory Council Membership Application Form (use this form if you are applying for a seat on the council)

The Federal Subsistence Board is accepting applications through Month/Day/Year for membership on ten Federal Subsistence Regional Advisory Councils. The Regional Advisory Councils provide advice and recommendations to the Board, concerning subsistence hunting, trapping and fishing issues on Federal public lands. XXXX appointments will be made in Year to fill expiring terms and seats vacated by resignation on the Regional Advisory Councils.

“The Regional Advisory Councils are the crucial link between subsistence users and the Federal Subsistence Board as their recommendations carry a great deal of weight in decisions regarding subsistence,” says Mitch Demientieff, Chair of the Board.

Criteria for Membership

• Resident of the region he/she wishes to represent

• Knowledge of fish and wildlife resources in the region

• Knowledge of subsistence uses, customs, and traditions in the region

• Knowledge of recreational, commercial, and other uses in the region

• Leadership and experience with local regional organizations

• Ability to communicate effectively

• Willing to travel to and attend Regional Advisory Council meetings at least two times each year (usually in October and February)

• Willing to occasionally attend Federal Subsistence Board meetings

Federal Subsistence Regions

Regional Advisory Councils represent the following geographic regions in Alaska:

Region 1 Southeast Alaska

Region 2 Southcentral Alaska

Region 3 Kodiak/Aleutians

Region 4 Bristol Bay

Region 5 Yukon-Kuskokwim Delta

Region 6 Western Interior

Region 7 Seward Peninsula

Region 8 Northwest Arctic

Region 9 Eastern Interior

Region 10 North Slope

Regional Advisory Council Membership

Regional Advisory Council members are appointed to 3-year terms. The Regional Advisory Councils meet at least twice a year. While no compensation is provided for this volunteer service, Regional Advisory Council members are reimbursed for travel-related expenses. Responsibilities of the Regional Councils include:

• Review and make recommendations to the Federal Subsistence Board on proposals for regulations, policies, management plans, and other subsistence related issues on Federal public lands within the region;

• Develop proposals pertaining to the subsistence harvest of fish and wildlife, and review proposals submitted by others;

• Encourage and promote local participation in the decision making process affecting subsistence harvests on Federal public lands;

• Make recommendations on customary and traditional use determinations of subsistence resources;

• Appoint members to national park subsistence resource commissions.

Schedule

February [day/year]

Deadline for submitting applications and nominations.

March-May

Applications will be reviewed by regional panels.

June

Federal Subsistence Board will review panel recommendations.

July-November

Secretaries of Interior and Agriculture will review recommendations and appoint members to the Regional Councils.

For More Information Please Call

Southeast Alaska Region: Bob Schroeder, Juneau, (800) 586-7895 or (907) 586-7895.

Southcentral Alaska Region: Ann Wilkinson, Anchorage, (800) 478-1456 or (907) 786-3888.

Kodiak/Aleutians Region: Michelle Chivers, Anchorage, (800) 478-1456 or (907) 786-3888.

Bristol Bay Region: Cliff Edenshaw, Anchorage, (800) 478-1456 or (907) 786-3888.

Yukon-Kuskokwim Delta Region: Alex Nick, Bethel, (800) 621-5804 or (907) 543-3151.

Western Interior Alaska Region: Vince Mathews, Fairbanks, (800) 267-3997 or (907) 456-0277.

Northwest Arctic Region: Helen Armstrong, Anchorage, (800) 478-1456 or (907) 786-3888.

North Slope & Seward Peninsula Regions: Barb Armstrong, Anchorage, (800) 478-1456 or (907) 786-3888.

Eastern Interior Alaska Region: Donald Mike, Anchorage, (800) 478-1456 or (907) 786-3888.

In accordance with the Privacy Act (5 U.S.C. 552a) and the Paperwork Reduction Act (44 U.S.C. 3501), please note the following information. This information collection is authorized by the Alaska National Interest Lands Conservation Act and regulations promulgated thereunder. It is our policy not to use your name for any other purpose. The information that you provide will be used by the Federal Subsistence Board to make recommendations to the Secretary of the Interior for appointment of members of the Federal Subsistence Regional Advisory Councils. This information will be maintained in accordance with the Privacy Act, but may be released under a Freedom of Information Act request (5 U.S.C. 552). Your response is voluntary. An agency may not conduct or sponsor, and a person is not required to respond to a collection of information unless it displays a currently valid OMB control number. This information collection has been approved by OMB and assigned clearance number 1018-xxxx. We estimate that it will take you about 20 minutes to respond to these questions. Comments on this form should be mailed to the Information Collection Clearance Officer, U.S. Fish and Wildlife Service, Mail Stop Room 222, Arlington Square, Washington, DC 20240, (1018-xxxx). Thank you.

OMB Clearance Number 1018-xxxx.

Expires: xx-xx-xxxx.

Federal Subsistence Regional Advisory Council Membership

Application Form (use this form if you are applying for a seat on the council)

Your name:

First Name

Middle Initial

Last Name

Your Mailing address:

Your Telephone numbers:

home:

work:

fax:

Email:

Where is your primary place of residence?

Please answer the following questions (use another page if necessary):

(1) Please describe your knowledge of fish and wildlife resources in the region.

(2) Please describe your knowledge of subsistence and customary and traditional uses of resources in the region.

(3) Please describe your knowledge of recreational, guiding, commercial and other uses of fish and wildlife resources in the region.

(4) Do you participate in meetings on fish and wildlife issues (i.e. Fish and Game Advisory Committees, Regional Advisory Councils, Marine Mammal Commissions, Caribou Working Groups, Subsistence Resource Commissions, Coastal Resource Service areas, Waterfowl Conservation Committees)? If so, please describe your involvement.

(5) Have you served in an official capacity on councils, boards, committees, or associations in the past few years? Please mention the role you served while working with these groups (i.e. Chair, Vice Chair, member).

(6) The seat you are applying for represents users throughout the region. How would you find out about fish and wildlife concerns people have and get information back to those people?

(7) Please describe your ability to communicate effectively with others.

(8) Do you use Federal lands for hunting, trapping, fishing, guiding, transporting, commercial fishing, gathering, or sharing of traditional knowledge or other use of fish and wildlife resources?

(9) Are you willing to travel to and attend Regional Advisory Council meetings at least two times each year? (Regional Advisory Council meetings are usually held in October and February and travel expenses are reimbursable) Yes___No___

(10) Are you willing to attend Federal Subsistence Board meetings occasionally? (Board meetings are usually held in May and December. Travel expenses are reimbursable) Yes___ No___

Which user group will you represent as a member of the Regional Advisory Council? (Check ONE only!)

a. subsistence user

b. recreational/sport user

c. commercial fisherman

d. guide (hunting or fishing)

e. transporter/outfitter

f. other

Please describe your affiliation with this user group. You may include letters of endorsement from interest groups or local or statewide organizations, if you so desire.

Any additional comments you want to offer (attach additional sheets if needed).

Reference Contacts: Please include three references who can be contacted. You may also submit a letter of recommendation if you wish. Please provide the most current phone numbers available.

Name:

Organization:

Address:

Telephone Numbers:

Home:

Work:

Name:

Organization:

Address:

Telephone Numbers:

Home:

Work:

Name:

Organization:

Address:

Telephone Numbers:

Home:

Work:

I certify that, to the best of my knowledge, all statements are correct and complete.

Applicant Signature

Date

Please submit completed applications to: U.S. Fish and Wildlife Service, Federal Subsistence Board, 3601 C Street, Suite 1030, Anchorage, Alaska 99503.

Applications must be received by Month/Date/Year.

Federal Subsistence Regional Advisory Council Membership

Applications Will Be Accepted Through Month/Date/Year

Application Materials Are Enclosed!

Title: Federal Subsistence Regional Advisory Council Membership Nomination Form.

Approval Number: 1018-XXXX.

Frequency of Collection: Annually.

Description of Respondents: Local governments, Tribal organizations, and special interest groups.

Total Annual Burden Hours: The reporting burden is estimated to average 0.5 hours per respondent. With an estimated 50 nominations annually, the estimated Total Annual Burden Hours is 25 hours.

Total Annual Responses: About 50 nominations are expected to be submitted annually.

Federal Subsistence Regional Advisory Council Membership Nomination Form (for use when you are nominating someone else for a seat on the council)

The Federal Subsistence Board is accepting nominations and applications through Month/Day/Year for membership on ten Federal Subsistence Regional Advisory Councils. The Regional Councils provide advice and recommendations to the Board, concerning subsistence hunting, trapping and fishing issues on Federal public lands. XXXX appointments will be made in Year to fill expiring terms and seats vacated by resignation on the Regional Advisory Councils.

“The Regional Advisory Councils are the crucial link between subsistence users and the Federal Subsistence Board as their recommendations carry a great deal of weight in decisions regarding subsistence,” says Mitch Demientieff, Chair of the Board.

Criteria for Membership

• Resident of the region he/she wishes to represent

• Knowledge of fish and wildlife resources in the region

• Knowledge of subsistence uses, customs, and traditions in the region

• Knowledge of recreational, commercial, and other uses in the region

• Leadership and experience with local regional organizations

• Ability to communicate effectively

• Willing to travel to and attend Regional Advisory Council meetings at least two times each year (usually in October and February)

• Willing to occasionally attend Federal Subsistence Board meetings

Federal Subsistence Regions

Regional Advisory Councils represent the following geographic regions in Alaska:

Region 1 Southeast Alaska

Region 2 Southcentral Alaska

Region 3 Kodiak/Aleutians

Region 4 Bristol Bay

Region 5 Yukon-Kuskokwim Delta

Region 6 Western Interior

Region 7 Seward Peninsula

Region 8 Northwest Arctic

Region 9 Eastern Interior

Region 10 North Slope

Regional Advisory Council Membership

Regional Advisory Council members are appointed to 3-year terms. The Regional Councils meet at least twice a year. While no compensation is provided for this volunteer service, Regional Council Members are reimbursed for travel-related expenses. Responsibilities of the Regional Councils include:

• Review and make recommendations to the Federal Subsistence Board on proposals for regulations, policies, management plans and other subsistence related issues on Federal public lands within the region;

• Develop proposals pertaining to the subsistence harvest of fish and wildlife, and review proposals submitted by others;

• Encourage and promote local participation in the decision making process affecting subsistence harvests on Federal public lands;

• Make recommendations on customary and traditional use determinations of subsistence resources;

• Appoint members to national park subsistence resource commissions.

Schedule

February [day/year]

Deadline for submitting applications and nominations.

March-May

Applications will be reviewed by regional panels.

June

Federal Subsistence Board will review panel recommendations.

July-November

Secretaries of Interior and Agriculture will review recommendations and appoint members to the Regional Councils.

For More Information Please Call

Southeast Alaska Region: Bob Schroeder, Juneau, (800) 586-7895, or (907) 586-7895.

Southcentral Alaska Region: Ann Wilkinson, Anchorage, (800) 478-1456 or (907) 786-3888.

Kodiak/Aleutians Region: Michelle Chivers, Anchorage, (800) 478-1456 or (907) 786-3888.

Bristol Bay Region: Cliff Edenshaw, Anchorage, (800) 478-1456 or (907) 786-3888.

Yukon-Kuskokwim Delta Region: Alex Nick, Bethel, (800) 621-5804 or (907) 543-3151.

Western Interior Alaska Region: Vince Mathews, Fairbanks, (800) 267-3997 or (907) 456-0277.

Northwest Arctic Region: Helen Armstrong, Anchorage, (800) 478-1456 or (907) 786-3888.

North Slope & Seward Peninsula Regions: Barb Armstrong, Anchorage, (800) 478-1456 or (907) 786-3888.

Eastern Interior Alaska Region: Donald Mike, Anchorage, (800) 478-1456 or (907) 786-3888.

In accordance with the Privacy Act (5 U.S.C. 552a) and the Paperwork Reduction Act (44 U.S.C. 3501), please note the following information. This information collection is authorized by the Alaska National Interest Lands Conservation Act and regulations promulgated thereunder. It is our policy not to use your name for any other purpose. The information that you provide will be used by the Federal Subsistence Board to make recommendations to the Secretary of the Interior for appointment of members of the Federal Subsistence Regional Advisory Councils. This information will be maintained in accordance with the Privacy Act, but may be released under a Freedom of Information Act request (5 U.S.C. 552). Your response is voluntary. An agency may not conduct or sponsor, and a person is not required to respond to a collection of information unless it displays a currently valid OMB control number. This information collection has been approved by OMB and assigned clearance number 1018-xxxx. We estimate that it will take you about 20 minutes to respond to these questions. Comments on this form should be mailed to the Information Collection Clearance Officer, U.S. Fish and Wildlife Service, Mail Stop Room 222, Arlington Square, Washington, DC 20240, (1018-xxxx). Thank you.

OMB Clearance Number 1018-xxxx.

Expires: xx-xx-xxxx.

Federal Subsistence Regional Advisory Council Membership

Nomination Form (for use when you are nominating someone else for a seat on the Council)

Name of the person you are nominating:

First Name

Middle Initial

Last Name

Nominee's Mailing address:

Nominee's Telephone numbers:

home:

work:

fax:

Email:

Where is the nominee's primary place of residence?

Please answer the following questions (use another page if necessary):

(1) Please describe the nominee's knowledge of fish and wildlife resources in the region.

(2) Please describe the nominee's knowledge of subsistence and customary and traditional uses of resources in the region.

(3) Please describe the nominee's knowledge of recreational, guiding, commercial and other uses of fish and wildlife resources in the region.

(4) Does the nominee participate in meetings on fish and wildlife issues (i.e. Fish and Game Advisory Committees, Regional Advisory Councils, Marine Mammal Commissions, Caribou Working Groups, Subsistence Resource Commissions, Coastal Resource Service areas, Waterfowl Conservation Committees)? If so, please describe the nominee's involvement.

(5) Has the nominee served in an official capacity on councils, boards, committees, or associations in the past few years? Please mention the role you served while working with these groups (i.e. Chair, Vice Chair, member).

(6) The seat you are nominating someone for represents users throughout the region. How would the nominee find out about fish and wildlife concerns people have and get information back to those people?

(7) Please describe the nominee's ability to communicate effectively with others.

(8) Does the nominee use Federal lands for hunting, trapping, fishing, guiding, transporting, commercial fishing, gathering, or sharing of traditional knowledge or other use of fish and wildlife resources?

(9) Is the nominee willing to travel to and attend Regional Advisory Council meetings at least two times each year? (Regional Advisory Council meetings are usually held in October and February and travel expenses are reimbursable) Yes___ No___

(10) Is the nominee willing to attend Federal Subsistence Board meetings occasionally? (Board meetings are usually held in May and December. Travel expenses are reimbursable) Yes___ No___

Which user group will the nominee represent as a member of the Regional Advisory Council? (Check ONE only!)

a. subsistence user

b. recreational/sport user

g. commercial fisherman

h. guide (hunting or fishing)

i. transporter/outfitter

j. other

Any additional comments you want to offer (attach additional sheets if needed).

Reference Contacts: Please include two references who can be contacted. You may also submit a letter of recommendation if you wish. Please provide the most current phone numbers available.

Your name:

Organization:

Address:

Telephone Numbers:

Home:

Work:

Name:

Organization:

Address:

Telephone Numbers:

Home:

Work:

Name:

Organization:

Address:

Telephone Numbers:

Home:

Work:

I certify that, to the best of my knowledge, all statements are correct and complete.

Signature

Date

Your Title:

Organization:

Please submit completed applications to: U.S. Fish and Wildlife Service, Federal Subsistence Board, 3601 C Street, Suite 1030, Anchorage, Alaska 99503.

Applications must be received by Month/Date/Year

Federal Subsistence Board, c/o U.S. Fish and Wildlife Service, 3601 C Street, Suite 1030, Anchorage, AK 99503.

Federal Subsistence Regional Advisory Council Membership

Nominations will Be Accepted Through Month/Date/Year.

Nomination Materials are Enclosed!

Title: Regional Advisory Council Member Evaluation—Candidate Interview Form.

Approval Number: 1018-XXXX.

Frequency of Collection: Annually.

Description of Respondents: Alaska residents.

Total Annual Burden Hours: The reporting burden is estimated to average 0.5 hours per interview. With an estimated 120 applicants and 5 interviews conducted per applicant, the estimated Total Annual Burden hours is 300 hours.

Total Annual Responses: About 600 interviews are expected to be conducted annually.

Regional Advisory Council Member Evaluation Candidate Interview Form

Panelist:

Applicant:

Date:

Information from the questions that follow will help the Federal Subsistence Board develop a list of recommended appointments to the Federal Subsistence Regional Advisory Council in your region. All candidates must be a resident of the region he or she is representing. Resource management challenges and allocation controversies are particularly intense in many parts of Alaska, so wider representation is needed to ensure that the Councils serve as forums for constructive dialogue and problem solving. As a result, Councils have designated seats: 70 percent for representatives of subsistence interests and 30 percent for representatives of recreational/sport, and commercial interests. Careful attention needs to be paid to the affiliation of the candidate.

Several factors that will be used to evaluate individual qualifications, include:

• Knowledge of fish and wildlife resources in the region

• Knowledge of subsistence uses, customs, and traditions in the region

• Knowledge of recreational, commercial and other uses in the region

• Leadership and experience with local regional organizations

• Ability to communicate effectively

• Willing to travel to and attend Regional Council meetings at least two times each year (usually in September/October and February/March)

• Willing to occasionally attend Federal Subsistence Board meetings

In accordance with the Privacy Act (5 U.S.C. 552a) and the Paperwork Reduction Act (44 U.S.C. 3501), please note the following information. This information collection is authorized by the Alaska National Interest Lands Conservation Act and regulations promulgated thereunder. It is our policy not to use your name for any other purpose. The information that you provide will be used by the Federal Subsistence Board to make recommendations to the Secretary of the Interior for appointment of members of the Federal Subsistence Regional Advisory Councils. This information will be maintained in accordance with the Privacy Act, but may be released under a Freedom of Information Act request (5 U.S.C. 552). Your response is voluntary. An agency may not conduct or sponsor, and a person is not required to respond to a collection of information unless it displays a currently valid OMB control number. This information collection has been approved by OMB and assigned clearance number 1018-xxxx. We estimate that it will take you about 20 minutes to respond to these questions. Comments on this form should be mailed to the Information Collection Clearance Officer, U.S. Fish and Wildlife Service, Mail Stop Room 222, Arlington Square, Washington, DC 20240, (1018-xxxx). Thank you.

OMB Clearance Number 1018-xxxx.

Expires: xx-xx-xxxx.

Key Contacts.

Panels are required to consult with key regional contacts such as regional and local governments; tribes and corporations; fish and game advisory committees; commercial fisheries organizations; recreational, hunting, and fishing organizations; ADF&G; and all pertinent Federal field offices.

Panelists need to document contacts with key contacts in the region on the table below.

Organization, Government, or Agency | Person Contacted | Date

Questions to be directed to both the Applicant/Nominee and the key contacts/references:

1. Please describe your (the applicant's/nominee's) knowledge of fish and wildlife resources in the region.

2. Please describe your (the applicant's/nominee's) knowledge of subsistence and customary and traditional uses of resources in your region.

3. Please describe your (the applicant's/nominee's) knowledge of recreational, guiding, commercial, and other uses of fish and wildlife resources in the region.

4. Do you (Does the applicant/nominee) participate in meetings on fish and wildlife resource issues (i.e. Fish and Game Advisory Committees, Regional Advisory Councils, Marine Mammal Commissions, Caribou Working Groups, Subsistence Resource Commissions, Coastal Resource Service Areas, Waterfowl Conservation Committees)? If so, please describe the involvement.

5. Have you (Has the applicant/nominee) served in an official capacity on councils, boards, committees, or associations in the past few years? Please mention the role you (he/she) served while working with these groups (i.e. Chair, Vice Chair, member).

6. The Regional Council member represents users throughout the region. How would you (the applicant/nominee) find out about fish and wildlife concerns people have and get information back to those people?

7. Please describe your (the applicant's/nominee's) ability to communicate effectively with others.

8. Do you (Does the applicant/nominee) use Federal public lands for hunting, trapping, fishing, guiding, transporting, commercial fishing, gathering, or sharing of traditional knowledge or other use of fish or wildlife resources?

9. Describe your (the applicant's/nominee's) affiliation with the user group that you (he/she) will represent. Are there formal endorsements from this group? If so, please describe them.

Questions for the Applicant/Nominee only:

What are some fish and wildlife issues you would like to see addressed through the Regional Advisory Council over the next three years?

Why do you want to serve on the Regional Advisory Council?

Regional Council members serve as volunteers but are reimbursed for travel costs such as lodging, food, transportation, and other related expenses. There is no compensation for lost wages or job activities missed as a result of doing Regional Advisory Council business.

Are you willing to serve as a volunteer in this way? Yes___ No___

Can you be available to travel to meetings lasting 2-4 days within the region at least twice a year? Yes___ No___

We invite comments concerning this proposed information collection on:

(1) Whether the collection of information is necessary for the proper selection of Regional Council members, including whether the information will have practical utility; (2) the accuracy of our estimate of the burden of the collection of information; (3) ways to enhance the quality, utility, and clarity of the information to be collected; and, (4) ways to minimize the burden of the collection of information on respondents. The information collections in this program are part of a system of record covered by the Privacy Act (5 U.S.C. 552(a)).

Dated: October 23, 2002.
Anissa Craghead,
Information Collection Officer, Fish and Wildlife Service.

[FR Doc. 02-27429 Filed 10-28-02; 8:45 am]

BILLING CODE 4310-55-P